DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS).

FOR FURTHER INFORMATION CONTACT: John LeMaster, Department of Education, 400 Maryland Avenue SW, Room 11-152, Potomac Center Plaza, Washington, DC 20202-7240. Telephone: (202) 245-6218. Email: John.LeMaster@ed.gov.

If you use a telecommunications device for the deaf (TDD) or a text telephone (TTY), call the Federal Relay Service (FRS), toll-free, at 1-800-877-8339.

SUPPLEMENTARY INFORMATION: On January 14, 2008, we published in the Federal Register final regulations for 34 CFR part 462, Measuring Educational Gain in the National Reporting System for Adult Education (NRS regulations) (73 FR 2306). The NRS regulations established the process the Secretary uses to determine the suitability of tests for use in the NRS by States and local eligible providers. We annually publish in the Federal Register, and post on the internet at www.nrsweb.org, a list of the names of tests and the educational functioning levels the tests are suitable to measure in the NRS as required by § 462.12(c)(2).

On December 13, 2016, the Secretary published in the Federal Register (81 FR 89920) an annual notice of tests determined to be suitable for use in the NRS (December 2016 notice). In the December 2016 notice, the Secretary extended the approved periods for all 12 of the tests listed in the notice through February 2, 2019.

On September 7, 2017, the Secretary published in the Federal Register (82 FR 42339) an annual notice of tests determined to be suitable for use in the NRS (September 2017 notice). In the September 2017 notice, the Secretary announced a new test and test forms that were determined to be suitable for use in the NRS, in accordance with § 462.13.

On February 5, 2018, the Secretary published in the Federal Register (83 FR 5087) an annual notice of tests determined to be suitable for use in the NRS (February 2018 notice). In the February 2018 notice, the Secretary announced a new test and test forms that were determined to be suitable for use in the NRS, in accordance with § 462.13.

In this notice, the Secretary announces a list of English as a Second Language (ESL) tests and test forms determined to be suitable for use in the NRS. In the December 2016 notice, these ESL tests and test forms were approved for an extended period through February 2, 2019. Through this notice these ESL tests and test forms are approved for an additional period through February 2, 2021.

The Secretary is taking this action with respect to the previously approved ESL tests and test forms, in light of the following factors: (1) The Department's plan to implement new ESL descriptors for the NRS educational functioning levels, which will be necessary for the assessment review process concerning any ESL tests newly submitted for review as to suitability for use in the NRS; and (2) the Department's desire to minimize disruption for its grantees in the transition to the Adult Education and Family Literacy Act (AEFLA) as authorized by the Workforce Innovation and Opportunity Act (WIOA), including with respect to measuring educational gain under the NRS; and (3) the attendant transition authority in section 503(c) of WIOA, which authorizes the Secretary of Education to “take such actions as the Secretary determines to be appropriate to provide for the orderly transition” from AEFLA as authorized by the Workforce Investment Act of 1998 to AEFLA as authorized by WIOA.

Under the transition rules in § 462.4, the Secretary also announces in this notice a list of tests with NRS approvals expiring on February 2, 2019, which States and local providers may continue to use during a sunset period ending on June 30, 2019.

Adult education programs must use only the approved forms and computer-based delivery formats for the tests published in this document. If a particular test form or computer delivery format is not explicitly specified for a test in this notice, it is not approved for use in the NRS.

ESL Tests Previously Approved for an Extended Period Through February 2, 2019, and Now Approved for an Additional Extended Period Through February 2, 2021

The Secretary has determined that the following tests are suitable for use at all ESL levels of the NRS until February 2, 2021:

(1) Basic English Skills Test (BEST) Literacy. Forms B, C, and D are approved for use on paper. Publisher: Center for Applied Linguistics, 4646 40th Street NW, Washington, DC 20016-1859. Telephone: (202) 362-0700.

Internet: www.cal.org.

(2) Basic English Skills Test (BEST) Plus 2.0. Forms D, E, and F are approved for use on paper and through the computer-adaptive delivery format. Publisher: Center for Applied Linguistics, 4646 40th Street NW, Washington, DC 20016-1859. Telephone: (202) 362-0700.

Internet: www.cal.org.

(3) Comprehensive Adult Student Assessment Systems (CASAS) Life and Work Listening Assessments (LW Listening). Forms 981L, 982L, 983L, 984L, 985L, and 986L are approved for use on paper and through the computer-based delivery format. Publisher: CASAS, 5151 Murphy Canyon Road, Suite 220, San Diego, CA 92123-4339. Telephone: (800) 255-1036.

Internet: www.casas.org.

(4) Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036.

Internet: www.casas.org.

(5) Tests of Adult Basic Education Complete Language Assessment System-English (TABE/CLAS-E). Forms A and B are approved for use on paper. Publisher: Data Recognition Corporation—CTB, 13490 Bass Lake Road, Maple Grove, MN 55311. Telephone: (800) 538-9547.

Internet: www.tabetest.com.

Tests With NRS Approvals Expiring on February 2, 2019, That May Be Used in the NRS During a Sunset Period Ending on June 30, 2019

The Secretary has determined that the following tests may be used at all Adult Basic Education (ABE) levels of the NRS during a sunset period ending on June 30, 2019:

(1) Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036.

Internet: www.casas.org.

(2) Comprehensive Adult Student Assessment Systems (CASAS) Life Skills Math Assessments—Application of Mathematics (Secondary Level). Forms 31, 32, 33, 34, 35, 36, 37, 38, 505, and 506 of this test are approved for use on paper and through the computer-based delivery format. Publisher: CASAS, 5151 Murphy Canyon Road, Suite 220, San Diego, CA 92123-4339. Telephone: (800) 255-1036.

Internet: www.casas.org.

(3) General Assessment of Instructional Needs (GAIN)—Test of English Skills. Forms A and B are approved for use on paper and through the computer-based delivery format. Publisher: Wonderlic Inc., 400 Lakeview Parkway, Suite 200, Vernon Hills, IL 60061. Telephone: (877) 605-9496.

Internet: www.wonderlic.com.

(4) General Assessment of Instructional Needs (GAIN)—Test of Math Skills. Forms A and B are approved for use on paper and through the computer-based delivery format. Publisher: Wonderlic Inc., 400 Lakeview Parkway, Suite 200, Vernon Hills, IL 60061. Telephone: (877) 605-9496.

Internet: www.wonderlic.com.

(5) Massachusetts Adult Proficiency Test (MAPT) for Math. This test is approved for use through a computer-adaptive delivery format. Publisher: Massachusetts Department of Elementary and Secondary Education and University of Massachusetts Amherst, College of Education, 156 Hills South, University of Massachusetts Amherst, Amherst, MA 01003. Telephone: (413) 545-0564.

Internet: www.sabes.org.

(6) Massachusetts Adult Proficiency Test (MAPT) for Reading. This test is approved for use through the computer-adaptive delivery format. Publisher: Massachusetts Department of Elementary and Secondary Education and University of Massachusetts Amherst, College of Education, 156 Hills South, University of Massachusetts Amherst, Amherst, MA 01003. Telephone: (413) 545-0564.

Internet: www.sabes.org.

(7) Tests of Adult Basic Education (TABE 9/10). Forms 9 and 10 are approved for use on paper and through the computer-based delivery format. Publisher: Data Recognition Corporation—CTB, 13490 Bass Lake Road, Maple Grove, MN 55311. Telephone: 800-538-9547.

Internet: www.tabetest.com.

(8) Tests of Adult Basic Education Survey (TABE Survey). Forms 9 and 10 are approved for use on paper and through the computer-based delivery format. Publisher: Data Recognition Corporation—CTB, 13490 Bass Lake Road, Maple Grove, MN 55311. Telephone: (800) 538-9547.

Internet: www.tabetest.com.

Expiring Tests

The sunset period for an expiring test allows a State and local provider to transition to other tests suitable for use in the NRS. The State and local provider may use the transition period to select new tests, purchase appropriate inventories of assessment materials, and provide training to staff.

Revocation of Tests

Under certain circumstances, the Secretary may revoke the determination that a test is suitable (see § 462.12(e)). If the Secretary revokes the determination of suitability, the Secretary announces through the Federal Register and posts on the internet at www.nrsweb.org a notice of that revocation, along with the date by which States and local eligible providers must stop using the revoked test.

Accessible Format: Individuals with disabilities can obtain this document in an accessible format (such as braille, large print, audiotape, or compact disc) on request to the contact person listed under FOR FURTHER INFORMATION CONTACT in this notice.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 29 U.S.C. 3292.

Dated: September 18, 2018.
Scott Stump,
Assistant Secretary for Career, Technical, and Adult Education.

[FR Doc. 2018-20590 Filed 9-20-18; 8:45 am]

BILLING CODE 4000-01-P